DEPARTMENT OF HEALTH AND HUMAN SERVICES

Indian Health Service

Notice of Listing of Members of the Indian Health Service's Senior Executive Service Performance Review Board

The Indian Health Service (IHS) announces the individuals who will serve on the Indian Health Service's Senior Executive Service (SES) Performance Review Board (PRB). This action is being taken in accordance with Title 5, U.S.C., Section 4314 (c) (4), which requires that members of performance review boards be appointed in a manner to ensure consistency, stability, and objectivity in performance appraisals and requires that notice of the appointment of an individual to serve as a member be published in the Federal Register.

The following individuals will serve on the IHS PRB, which oversees the evaluation of performance appraisals of the IHS SES members:

Elizabeth Fowler, Chair

Richie Grinnell

Susan Karol

Christopher Mandregan

Dean Seyler

For further information about the IHS PRB, contact the Office of Human Resources, Indian Health Service, 801 Thompson Avenue, TMP Suite 230, Rockville, Maryland 20852, telephone 301-443-6520 (not a toll-free number).

Dated: October 5, 2015.
Robert G. McSwain,
Deputy Director, Indian Health Service.

[FR Doc. 2015-26181 Filed 10-13-15; 8:45 am]

BILLING CODE 4165-16-P